DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Drug Abuse Warning Network (OMB number 0930-0074, revision)—The Drug Abuse Warning Network (DAWN) is an on-going data system that currently collects information on drug abuse-related medical emergencies and deaths as reported from about 466 hospitals and 137 medical examiners/coroners (ME/C) nationwide. DAWN provides national and metropolitan estimates of substances involved with drug-related ED visits; disseminates information about substances involved in deaths investigated by participating ME/Cs; provides a means for monitoring drug abuse patterns, trends, and the emergence of new substances; assesses health hazards associated with drug use; and generates information for national and local drug abuse policy and program planning. DAWN data are used by Federal, State, and local agencies, as well as universities, pharmaceutical companies, and the press.

The current emergency department (ED) sample supports estimates for the coterminous U.S. and 21 major metropolitan areas. Beginning in 2003, the DAWN case definition will be changed to obtain more consistent and reliable data on drug abuse cases and also will capture additional cases where drug use/misuse led to ED visits or deaths for conditions such as adverse drug reactions, underage drinking and malicious poisonings. To achieve better geographic and population coverage, the ED sample will be expanded to support estimates for the full U.S. and 48 metropolitan areas. By the end of 2005, the sample will include approximately 841 hospitals. To achieve complete coverage, approximately 66 non-participating ME/C jurisdictions in the 48 metropolitan areas targeted for the ED expansion will be added in lieu of a sample. Facilities (EDs and ME/Cs) will continue to use the current forms in early 2003 to complete reporting on events occurring through December 2002, but will use the revised forms for all events occurring from 1/1/2003 forward.

The annual burden estimates are shown below.

Annualized Reporting Burden for DAWN: Closeout 2002 ¹
| Number of respondents | Estimated number of responses per respondent | Estimated time per response | Gross burden hours | IR ² Reporting Hours | Total adjusted burden (hrs)
Hospitals
Current Forms | 100 | 58 | 9 min (.15 hr) | 870 | 435 | 435
Current eHERS (electronic Hospital Emergency Reporting System) | 366 | 58 | 9 min (.15 hr) | 3184 | 1592 | 1592
ED Logs | 100 | 7 | 2 min (.03 hr) | 21 | 11 | 10
Subtotal |  |  |  |  |  | 2037
Medical Examiners
Current Forms | 20 | 16 | 15 min (.25 hr) | 80 | 40 | 40
Current eMERS (electronic Medical Examiner Reporting System) | 119 | 16 | 15 min (.25 hr) | 476 | 238 | 238
ME Logs | 20 | 9 | 2 min (.03 hr) | 5 | 3 | 2
Subtotal |  |  |  |  |  | 280
Total |  |  |  |  |  | 2317
¹ Number of respondents and respondent burden annualized over 3 year period from 12/1/02-11/30/05, using the current reporting forms.
² There is no burden associated with reporting by Independent Reporters (IRs), so these hours are not included in Total Adjusted Burden. Half (50%) of all respondents are Independent Reporters.

Annualized Reporting Burden for DAWN ¹: 2003-2005
| Number of respondents | Estimated Number of responses per respondent | Estimated time per response | Gross burden hours | IR ² Reporting hours | Total adjusted burden (hrs)
Hospitals
Case Forms | 100 | 97 | 12 min (.20 hr) | 1940 | 970 | 970
Transmittal Forms | 100 | 11 | 2 min (.03 hr) | 33 | 17 | 16
Revised eHERS (electronic Hospital Emergency Reporting System) | 654 | 678 | 12 min (.20 hr) | 88,682 | 44,341 | 44,341
Subtotal |  |  |  |  |  | 45,327
Medical Examiners
Case Forms | 20 | 20 | 15 min (.25 hr) | 100 | 50 | 50
Transmittal Forms | 20 | 11 | 2 min (.03 hr) | 7 | 4 | 3
Revised eMERS (electronic Medical Examiner Reporting System) | 175 | 117 | 15 min (.25 hr) | 5119 | 2560 | 2559
Subtotal |  |  |  |  |  | 2612
Total |  |  |  |  |  | 47,939
¹ Number of respondents and respondent burden annualized over 3 year period from 12/1/02-11/30/05 using the revised reporting forms. Assumes all facilities converted to electronic reporting by July 2003.
² There is no burden associated with reporting by Independent Reporters (IRs), so these hours are not included in Total Adjusted Burden. Half (50%) of all respondents are Independent Reporters.

Send comments to Nancy Pearce, SAMHSA Reports Clearance Officer, Room 16-105, Parklawn Building, 5600 Fishers Lane, Rockville, MD 20857. Written comments should be received within 60 days of this notice.

Dated: July 16, 2002.
Richard Kopanda,
Executive Officer, SAMHSA.

[FR Doc. 02-18357 Filed 7-19-02; 8:45 am]

BILLING CODE 4162-20-P